DEPARTMENT OF LABOR

Employment and Training Administration

[TA-W-65,666]

Neocork Technologies; Conover, NC; Notice of Termination of Investigation

Pursuant to Section 221 of the Trade Act of 1974, as amended, an investigation was initiated on March 24, 2009 in response to a petition filed on behalf of workers of Neocork Technologies, Conover, North Carolina.

The petitioner has requested that the petition be withdrawn. Therefore, the investigation under this petition has been terminated.

Signed at Washington, DC, this 3rd day of April 2009.
Linda G. Poole,
Certifying Officer, Division of Trade Adjustment Assistance.

[FR Doc. E9-10593 Filed 5-6-09; 8:45 am]

BILLING CODE 4510-FN-P